DEPARTMENT OF EDUCATION

Applications for New Awards; Statewide Family Engagement Centers

AGENCY: Office of Elementary and Secondary Education, Department of Education.

ACTION: Notice.

SUMMARY: The Department of Education (Department) is issuing a notice inviting applications for fiscal year (FY) 2022 for the Statewide Family Engagement Centers (SFEC) program, Assistance Listing Number (ALN) 84.310A. This notice relates to the approved information collection under the Office of Management and Budget (OMB) control number 1894-0006.

DATES:

Applications Available: December 20, 2021.

Deadline for Transmittal of Applications: February 18, 2022.

Deadline for Intergovernmental Review: April 19, 2022.

Pre-Application Webinar Information: For information about the pre-application webinar, visit the SFEC website at: https://oese.ed.gov/offices/office-of-discretionary-grants-support-services/school-choice-improvement-programs/statewide-family-engagement-centers-program/.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Beth Yeh, U.S. Department of Education, 400 Maryland Avenue SW, Room 3E335, Washington, DC 20202-5970. Telephone: (202) 205-5798. Email: beth.yeh@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The SFEC program is authorized under title IV, part E of the Elementary and Secondary Education Act of 1965, as amended (ESEA). The purpose of the SFEC program is to provide financial support to organizations that provide technical assistance and training to State educational agencies (SEAs) (as defined in the notice) and local educational agencies (LEAs) (as defined in the notice) in the implementation and enhancement of systemic and effective family engagement policies, programs, and activities that lead to improvements in student development and academic achievement. The Secretary is authorized to award grants to statewide organizations (or consortia of such organizations) to establish SFECs that (1) carry out parent education and family engagement in education programs, and (2) provide comprehensive training and technical assistance to SEAs, LEAs, schools identified by SEAs and LEAs, organizations that support family-school partnerships, and other such programs.

Background: Deep and meaningful family engagement is critical to the success of all schools and all students. The SFEC program seeks to promote high-impact cradle-to-career family, school, and community engagement by funding centers that build the capacity of all stakeholders—including families, SEAs, LEAs, school-level staff and personnel, and community-based organizations—to engage in effective partnerships that support equity, student opportunities and achievement, and students' and families' social and emotional needs.

Family, school, and community engagement must be viewed as a shared responsibility among all parties, in order to be effective. The engagement should be continuous from birth to young adulthood and should take place wherever children learn—at home, in school, and in their community.

The Department's Dual Capacity-Building Framework for Family-School Partnerships ¹ identifies several key conditions essential to the design of high-quality activities and initiatives for building the capacity of families, SEAs, LEAs, and school staff to partner in ways that support school improvement and student opportunities and achievement. These conditions highlight the fact that high-quality activities are purposefully designed and linked to school and LEA achievement goals (e.g., school readiness, student achievement, and school improvement).

¹ See: www2.ed.gov/documents/family-community/frameworks-resources.pdf.

The Dual Capacity-Building Framework promotes the integration of initiatives into the support structures and processes at the SEA and LEA levels, including training, professional development, teaching and learning, resource development and community collaboration. The framework also recommends that these initiatives operate with adequate resources, including public-private partnerships, to ensure meaningful and effective strategies that have the power to impact student learning and achievement.

Building on years of research and lessons learned from programs such as the Parent Training and Information Centers,² the high-impact family engagement envisioned in SFEC requires a focus on State and local policy, as well as initiatives designed to promote parental involvement (as defined in this notice) and other direct support for parents, families, and the organizations that serve them.

² The Parent Training and Information Centers program is one of the primary vehicles under the Individuals with Disabilities Education Act (IDEA) for providing information and training to parents of children with disabilities.

In this year's SFEC competition, the Department also seeks to continue to build an evidence base for the program by providing incentives to applicants that propose: (1) Projects (as defined in the notice) that are supported by evidence (Competitive Preference Priority 1); and (2) robust evaluations. Such projects would, if well implemented, yield promising evidence (as defined in this notice). To this end, we include a competitive preference priority encouraging projects that are based on evidence and a selection criterion factor that encourages applicants to further explain the conceptual framework, which can be outlined in a logic model.

In addition, through Competitive Preference Priorities 2-4, we seek applications that propose to address the impacts from the COVID-19 pandemic (Competitive Preference Priority 2), promote equity (Competitive Preference Priority 3), and support coordination (Competitive Preference Priority 4). These priorities are important for this SFEC program competition for a variety of reasons. The COVID-19 pandemic has required LEAs and schools to work closely with families as schools moved in and out of remote learning, implemented return to school plans, and have supported students' social, emotional, mental health, and academic needs after significant disruption and lost instructional time. Our hope is that this family school coordination can continue to be improved as schools focus on recovery efforts and meeting the needs of students and families.

Equity has always been at the heart of the SFEC program. The statute requires that 65 percent of funds serve LEAs, schools, and community-based organizations that serve high concentrations of disadvantaged students. Therefore, we include a Competitive Preference Priority 3 focused on equity. The competitive preference priority also dovetails with the goals of the SFEC program to coordinate family engagement within states through SEAs, LEAs, schools, and community organizations.

Although Competitive Preference Priorities 2-4 are focused on the LEA and school levels, SFECs can play a vital role in promoting these priorities in a variety of ways. SFECs can partner with organizations that emphasize these priorities in their staff and vision. SFECs can also highlight resources addressing these priorities on their websites, provide specific technical assistance around these priories through trainings or webinars, or address this work at Advisory committee meetings either through subcommittees or adding attendees to the committees such as additional community groups. These priorities could also be addressed through the evidence-based interventions in LEAs conducted by the SFEC.

Applicants may address the equity priority through strategies to increase racial and socioeconomic diversity through robust family and community involvement that includes increasing the racial and socioeconomic diversity of families recruited for interventions, trainings, webinars, and advisory committee attendance with these specific priorities in mind. Attendance in statewide and LEA-wide committees that include other LEAs, regional groups, housing, and transportation groups could also address this priority. Additionally, working with any existing diversity plans at in LEA intervention sites would be a way to address this priority.

Priorities: This notice contains four competitive preference priorities. Competitive Preference Priority 1 is from section 4503(c) of the ESEA. Competitive Preference Priorities 2, 3, and 4 are from the Secretary's Final Supplemental Priorities and Definitions for Discretionary Grant Programs (Supplemental Priorities), published in the Federal Register on December 10, 2021 (86 FR 70612).

Competitive Preference Priorities: For FY 2022 and any subsequent year in which we make awards from the list of unfunded applications from this competition, these priorities are competitive preference priorities. Under 34 CFR 75.105(c)(2)(i), we award up to an additional three points each to an application depending on how well the application meets Competitive Preference Priority 1, Competitive Preference Priority 2, Competitive Preference Priority 3, and/or Competitive Preference Priority 4 for a maximum of twelve additional points under these priorities. The total possible points for each competitive preference priority are noted in parentheses.

These priorities are:

Competitive Preference Priority 1—Evidence-Based Activities (up to 3 Points)

The Secretary gives priority to statewide family engagement centers that will use grant funds for evidence-based activities (as defined in this notice).

Competitive Preference Priority 2— Addressing the Impact of COVID-19 on Students, Educators, and Faculty (up to 3 Points)

Projects that are designed to address the impacts of the COVID-19 pandemic, including impacts that extend beyond the duration of the pandemic itself, on the students most impacted by the pandemic, with a focus on underserved students (as defined in this notice) and the educators who serve them, through one or more of the following priority areas:

(a) Conducting community asset-mapping and needs assessments that may include an assessment of the extent to which students, including subgroups of students, have become disengaged from learning, including students not participating in in-person or remote instruction, and specific strategies for reengaging and supporting students and their families.

(b) Providing resources and supports to meet the basic, fundamental, health and safety needs of students and educators.

(c) Addressing students' social, emotional, mental health, and academic needs through approaches that are inclusive with regard to race, ethnicity, culture, language, and disability status.

Competitive Preference Priority 3—Promoting Equity in Student Access to Educational Resources, and Opportunities (up to 3 Points)

Under this priority, an applicant must demonstrate that it proposes a project designed to promote educational equity and adequacy in resources and opportunity for underserved students—

(a) In one or more of the following educational settings:

(1) Early learning (as defined in the notice) programs.

(2) Elementary school.

(3) Middle school.

(4) High school.

(5) Career and technical education programs.

(6) Out-of-school-time settings.

(7) Alternative schools and programs.

(8) Juvenile justice system or correctional facilities.

(9) Adult learning.

(b) That examines the sources of inequity and inadequacy and implement responses, that may include one or more of the following:

(1) Establishing, expanding, or improving the engagement of underserved community members (including underserved students and families) in informing and making decisions that influence policy and practice at the school, district, or State level by elevating their voices, through their participation and their perspectives and providing them with access to opportunities for leadership (e.g., establishing student government programs and parent and caregiver leadership initiatives)).

(2) Increasing student racial or socioeconomic diversity, through one or more of the following:

(i) Ongoing, robust family and community involvement.

(ii) Intra- or inter-district or regional coordination.

(iii) Cross-agency collaboration, such as with housing or transportation authorities.

(iv) Alignment with an existing public diversity plan that is evidence-based and designed to effectively promote diversity.

Competitive Preference Priority 4—Strengthening Cross-Agency Coordination and Community Engagement To Advance Systemic Change (up to 3 Points)

Projects that are designed to take a systemic evidence-based approach to improving outcomes for underserved students in the following priority area:

(a) Establishing cross-agency partnerships, or community-based partnerships with local nonprofit organizations, businesses, philanthropic organizations, or others, to meet family well-being needs.

Application Requirements: The following requirements are from section 4503 of the ESEA. For FY 2022 and any subsequent year in which we make awards from the list of unfunded applications from this competition, the following application requirements apply. In order to receive funding, an applicant must include the following in its application:

(a) A description of the applicant's approach to family engagement in education.

(b) A description of how the SEA and any partner organization will support the SFEC that will be operated by the applicant including a description of the SEA and any partner organization's commitment of such support.

(c) A description of the applicant's plan for building a statewide infrastructure for family engagement in education, that includes—

(1) management and governance;

(2) statewide leadership; or

(3) systemic services for family engagement in education.

(d) A description of the applicant's demonstrated experience in providing training, information, and support, to SEAs, LEAs, schools, educators, parents, and organizations on family engagement in education policies and practices that are effective for parents (including low-income parents) and families, parents of English learners (as defined in this notice), minorities, students with disabilities, homeless children and youth, children and youth in foster care, and migrant students, including evaluation results, reporting, or other data exhibiting such demonstrated experience.

(e) A description of the steps the applicant will take to target services to low-income students and parents.

(f) An assurance that the applicant will—

(1) Establish a special advisory committee, the membership of which includes—

(i) Parents, who shall constitute a majority of the members of the special advisory committee;

(ii) Representatives of education professionals with expertise in improving services for disadvantaged children;

(iii) Representatives of local elementary schools and secondary schools, including students;

(iv) Representatives of the business community; and

(v) Representatives of SEAs and LEAs;

(2) Use not less than 65 percent of the funds received under Part E of the ESEA, Family Engagement in Education Programs in each fiscal year to serve LEAs, schools, and community-based organizations that serve high concentrations of disadvantaged students, including students who are English learners, minorities, students with disabilities, homeless children and youth, children and youth in foster care, and migrant students;

(3) Operate a SFEC of sufficient size, scope, and quality to ensure that the center is adequate to serve the SEA, LEAs, and community-based organizations;

(4) Ensure that the SFEC will retain staff with the requisite training and experience to serve parents in the State;

(5) Serve urban, suburban, and rural LEAs and schools;

(6) Work with—

(i) Other SFECs assisted under Part E of the ESEA, Family Engagement in Education Programs; and

(ii) Parent training and information centers and community parent resource centers assisted under sections 671 and 672 of the Individuals with Disabilities Education Act (20 U.S.C. 1471; 1472); and

(7) Use not less than 30 percent of the funds received under this competition for each fiscal year to establish or expand technical assistance for evidence-based parent education programs;

(8) Provide assistance to SEAs, LEAs, and community-based organizations that support family members in supporting student achievement;

(9) Work with SEAs, LEAs, schools, educators, and parents to determine parental needs and the best means for delivery of services to address such needs;

(10) Conduct sufficient outreach to assist parents, including parents who the applicant may have a difficult time engaging with a school or LEA; and

(11) Conduct outreach to low-income students and parents, including low-income students and parents who are not proficient in English.

(g) An assurance that the applicant will conduct training programs in the community to improve adult literacy, including financial literacy.

Program Requirements: Program requirement (a) is from section 4504 of the ESEA.

(a) Uses of funds.

Each grantee shall use the grant funds, based on the needs determined under Application Requirement (e)(9), to provide training and technical assistance to SEAs, LEAs, and organizations that support family-school partnerships; and activities, services, and training for LEAs, school leaders, educators, and parents—

(1) To assist parents in participating effectively in their children's education and to help their children meet challenging State academic standards, such as by assisting parents—

(i) To engage in activities that will improve student academic achievement, including understanding how parents can support learning in the classroom with activities at home and in afterschool and extracurricular programs;

(ii) To communicate effectively with their children, teachers, school leaders, counselors, administrators, and other school personnel;

(iii) To become active participants in the development, implementation, and review of school-parent compacts, family engagement in education policies, and school planning and improvement;

(iv) To participate in the design and provision of assistance to students who are not making academic progress;

(v) To participate in State and local decision making;

(vi) To train other parents; and

(vii) In learning and using technology applied in their children's education;

(2) To develop and implement, in partnership with the SEA, statewide family engagement in education policy and systemic initiatives that will provide for a continuum of services to remove barriers for family engagement in education and support school reform efforts; and

(3) To develop and implement parental involvement policies under the ESEA.

Definitions: For FY 2022 and any subsequent year in which we make awards from the list of unfunded applications from this competition, the following definitions apply. The definitions of “Local educational agency,” “Parental involvement,” “State educational agency” and “Evidence-based” are from section 8101of the ESEA. The definitions of “Experimental study,” “Performance measure,” “Performance target,” “Project,” “Project component,” “Promising evidence,” “Quasi-experimental design study,” “Relevant outcome,” and “What Works Clearinghouse Handbook” are from 34 CFR 77.1. The definitions of “Children or students with disabilities,” Disconnected youth,” “Early learning,” “English learner,” “Military- or veteran-connected students” and “Underserved students” are from the Supplemental Priorities.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202) (B)).

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

English learner means an individual who is an English learner as defined in section 8101(20) of the Elementary and Secondary Education Act of 1965, as amended, or an individual who is an English language learner as defined in section 203(7) of the Workforce Innovation and Opportunity Act.

Evidence-based, for purposes of this notice, means an activity, strategy, or intervention that demonstrates a statistically significant effect on improving student outcomes or other relevant outcomes (as defined by the notice) based on promising evidence.

Experimental study means a study that is designed to compare outcomes between two groups of individuals (such as students) that are otherwise equivalent except for their assignment to either a treatment group receiving a project component (as defined in the notice) or a control group that does not. Randomized controlled trials, regression discontinuity design studies, and single-case design studies are the specific types of experimental studies that, depending on their design and implementation (e.g., sample attrition in randomized controlled trials and regression discontinuity design studies), can meet What Works Clearinghouse (WWC) (as defined in the notice) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Local educational agency (LEA) means: (a) In General. A public board of education or the public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA other than the Bureau of Indian Education.

(d) Educational Service Agencies. The term includes educational service agencies and consortia of those agencies.

(e) State educational agency. The term includes the SEA in a State in which the SEA is the sole educational agency for all public schools.

Military- or veteran-connected student means one or more of the following: (a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Parental involvement means the participation of parents in regular, two-way, and meaningful communication involving student academic learning and other school activities, including ensuring—

(A) That parents play an integral role in assisting their child's learning;

(B) That parents are encouraged to be actively involved in their child's education at school;

(C) That parents are full partners in their child's education and are included, as appropriate, in decision making and on advisory committees to assist in the education of their child; and

(D) The carrying out of other activities, such as those described in section 1116 of the ESEA.

Performance measure means any quantitative indicator, statistic, or metric used to gauge program or project performance.

Performance target means a level of performance that an applicant would seek to meet during the course of a project or as a result of a project.

Project means the activity described in the application.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(a) A practice guide prepared by WWC reporting a “strong evidence base” or “moderate evidence base” for the corresponding practice guide recommendation;

(b) An intervention report prepared by the WWC reporting a “positive effect” or “potentially positive effect” on a relevant outcome with no reporting of a “negative effect” or “potentially negative effect” on a relevant outcome; or

(c) A single study assessed by the Department, as appropriate, that—

(i) Is an experimental study (as defined in the notice), a quasi-experimental design study (as defined in the notice), or a well-designed and well-implemented correlational study with statistical controls for selection bias (e.g., a study using regression methods to account for differences between a treatment group and a comparison group); and

(ii) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcomes(s) the key project component is designed to improve, consistent with the specific goals of the program.

State educational agency (SEA) means the agency primarily responsible for the State supervision of public elementary schools and secondary schools.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability (as defined in the notice).

(f) A disconnected youth (as defined in the notice).

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student enrolling in or seeking to enroll in postsecondary education for the first time at the age of 20 or older.

(q) A student who is working full-time while enrolled in postsecondary education.

(r) A student who is enrolled in or is seeking to enroll in postsecondary education who is eligible for a Pell Grant.

(s) An adult student in need of improving their basic skills or an adult student with limited English proficiency.

(t) A student performing significantly below grade level.

(u) A military- or veteran- connected student (as defined in the notice).

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Program Authority: Sections 4501- 4506 of the ESEA (20 U.S.C. 7241-46).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds:

The Administration has requested $12,500,000 for the Statewide Family Engagement Centers program for FY 2022, of which we intend to use an estimated $5,000,000 for this competition. The actual level of funding, if any, depends on final congressional action. However, we are inviting applications to allow enough time to complete the grant process before the end of the current fiscal year, if Congress appropriates funds for this program.

Contingent upon the availability of funds and the quality of applications, we may make additional awards in FY 2023 from the list of unfunded applications from this competition.

Estimated Range of Awards: $500,000-$1,000,000 per project year.

Estimated Average Size of Awards: $750,000 per project year.

Maximum Award: We will not make an award exceeding $1,000,000 for a single budget period of 12 months.

Estimated Number of Awards: 5-7.

Note: The Department is not bound by any estimates in this notice.

Project Period: Up to 60 months. Continued funding of a grant under this competition will be contingent on the grantee's progress toward meeting the performance measures (as defined in the notice) and targets identified in the application.

III. Eligibility Information

1. Eligible Applicants: Statewide organizations (or consortia of such organizations).

2. a. Cost Sharing or Matching: ESEA section 4502(c) requires that each grantee contribute non-Federal resources, which may be in cash or in-kind, towards its project for each fiscal year after the first fiscal year in which the project is funded by the Department.

b. Administrative Cost Limitation: This program does not include any program specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the SFEC program, your application may include business information that you consider proprietary. In 34 CFR 5.11 we define “business information” and describe the process we use in determining whether any of that information is proprietary and, thus, protected from disclosure under Exemption 4 of the Freedom of Information Act (5 U.S.C. 552, as amended).

Because we plan to make all successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Funding Restrictions: We reference regulations outlining funding restrictions in the Applicable Regulations section of this notice.

5. Recommended Page Limit: The application narrative is where you, the applicant, address the selection criteria that reviewers use to evaluate your application. We recommend that you (1) limit the application narrative to no more than 40 pages and (2) use the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. The recommended page limit does not apply to the cover sheet; the budget section, including the narrative budget justification; the assurances and certifications; or the one-page abstract, the resumes, the bibliography, the preliminary memorandum of understanding, a logic model, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. The maximum score for all of the selection criteria is 100 points. The maximum score for each criterion is included in parentheses following the title of the specific selection criterion. Each criterion also includes the factors that reviewers will consider in determining the extent to which an applicant meets the criterion. Points awarded under these selection criteria are in addition to any points an applicant earns under the competitive preference priorities in this notice.

A. Quality of the Project Design (up to 25 Points)

The Secretary considers the quality of the design of the proposed project. In determining the quality of the design of the proposed project, the Secretary considers the following factors—

(1) The extent to which there is a conceptual framework underlying the proposed research or demonstration activities and the quality of that framework.

(2) The extent to which the services to be provided by the proposed project reflect up-to-date knowledge from research and effective practice.

(3) The extent to which the proposed project is designed to build capacity and yield results that will extend beyond the period of Federal financial assistance.

B. Quality of the Management Plan (up to 20 Points)

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The adequacy of procedures for ensuring feedback and continuous improvement in the operation of the proposed project.

(3) The adequacy of mechanisms for ensuring high-quality products and services from the proposed project.

(4) The extent to which the time commitments of the project director and principal investigator and other key project personnel are appropriate and adequate to meet the objectives of the proposed project.

(5) How the applicant will ensure that a diversity of perspectives are brought to bear in the operation of the proposed project, including those of parents, teachers, the business community, a variety of disciplinary and professional fields, recipients or beneficiaries of services, or others, as appropriate.

C. Project Personnel (up to 15 Points)

The Secretary considers the quality of the personnel who will carry out the proposed project. In determining the quality of project personnel, the Secretary considers the extent to which the applicant encourages applications for employment from persons who are members of groups that have traditionally been underrepresented based on race, color, national origin, gender, age, or disability. In addition, in determining the quality of the management plan and project personnel, the Secretary considers the following factors—

(1) The qualifications, including relevant training and experience, of the project director or principal investigator.

(2) The qualifications, including relevant training and experience, of key project personnel.

(3) The qualifications, including relevant training and experience, of project consultants or subcontractors.

D. Adequacy of Resources (up to 20 Points)

The Secretary considers the adequacy of resources for the proposed project. In determining the adequacy of resources for the proposed project, the Secretary considers the following factors—

(1) The relevance and demonstrated commitment of each partner in the proposed project to the implementation and success of the project.

(2) The extent to which the costs are reasonable in relation to the objectives, design, and potential significance of the proposed project.

(3) The extent to which the costs are reasonable in relation to the number of persons to be served and the anticipated results and benefits.

E. Quality of the Project Evaluation (up to 20 Points)

The Secretary considers the quality of the evaluation to be conducted of the proposed project. In determining the quality of the evaluation, the Secretary considers—

(1) The extent to which the methods of evaluation include the use of objective performance measures that are clearly related to the intended outcomes of the project and will produce quantitative and qualitative data to the extent possible.

(2) The extent to which the methods of evaluation will provide performance feedback and permit periodic assessment of progress toward achieving intended outcomes.

(3) The extent to which methods of evaluation will, if well-implemented, produce promising evidence (as defined in 34 CFR 77.1(c)) about the project's effectiveness.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: As outlined in title IV, part E, section 4501 of the ESEA, SFEC is focused on using family engagement to improve student development and academic achievement. The program recognizes that in order to effectively and sustainably engage parents and families, grantees must use training and technical assistance to build capacity at the State and district levels to develop and implement policies, programs, and activities that are inclusive of families and lead to improvements in student development and academic achievement. SFECs must also provide direct support to parents, teachers, and others that strengthen the relationship between parents and their children's school, foster greater engagement, and assist them in meeting the educational needs of children. SFEC will coordinate its activities with activities conducted under section 1116 and other parts of the ESEA, as well as other Federal, State, and local services and programs.

Annual performance measures: (1) The number of parents who are participating in SFEC activities designed to provide them with the information necessary to understand their annual school report cards and other opportunities for engagement under section 1116 and other related ESEA provisions; (2) the number of high-impact activities or services provided to build a statewide infrastructure for systemic family engagement that includes support for SEA- and LEA-level leadership and capacity-building; (3) the number of high-impact activities or services implemented to ensure that parents are trained and can effectively engage in activities that will improve student academic achievement, to include an understanding of how they can support learning in the classroom with activities at home or outside the school generally, as well as how they can participate in State and local decision-making processes; (4) the percentage of parents and families receiving SFEC services who report having enhanced capacity to work with schools and service providers effectively in meeting the academic and developmental needs of their children; (5) The number of high-impact activities or services implemented to ensure that LEA, school, and community-based organization staff are trained and can effectively engage in activities with families that will improve student academic achievement, to include an understanding of how they can support families with activities at home or outside the school generally, as well as how they can help families participate in state and local decision-making processes; and (6) The percentage of LEA and school staff receiving SFEC services who report having enhanced capacity to work with families effectively in meeting the academic and developmental needs of their children.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets (as defined in the notice) in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact discor other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs, Delegated the Authority to Perform the Functions and Duties of the Assistant Secretary, Office of Elementary and Secondary Education.

[FR Doc. 2021-27489 Filed 12-17-21; 8:45 am]

BILLING CODE 4000-01-P